DEPARTMENT OF AGRICULTURE

Forest Service

Environmental Assessment for Post-Fire Recovery Actions on National Forest System Lands

AGENCY: Forest Service, Agriculture (USDA).

ACTION: Notice of intent to prepare an environmental assessment.

SUMMARY: The USDA Forest Service is preparing a nationwide environmental assessment to analyze the effects of post-fire recovery actions on National Forest System lands in the continental United States. The intent of this assessment is to identify general actions, issues, alternatives, and supporting analysis that are common to post wildfire activities that occur on National Forest System Lands to facilitate consistency and more efficient subsequent site specific decisions. Severe wildfires are happening more often, causing serious damage to our national forests and grasslands. These fires can harm forests, grasslands, and local economies, alter wildlife habitat, and create hazards for communities and infrastructure. Immediate post-fire recovery actions can help restore healthy forest conditions and reduce hazards. This environmental assessment will not authorize, fund, or carry out any site specific action. Post-fire recovery projects will be accomplished in accordance with land management plans. Site specific considerations, including any needed supplemental analysis, design criteria, mitigation measures, or findings, will be provided for in project-specific documentation and, if needed, supplemental environmental assessments or other analyses.

DATES: Comments on this action must be received by January 26, 2026.

ADDRESSES: Comments must be submitted electronically through the Federal eRulemaking Portal, https://www.regulations.gov, identified by docket number FS-2025-0034. Follow the instructions for submitting comments. Additional information about this project can be found here: https://www.fs.usda.gov/managing-land/disaster-recovery/post-fire-recovery.

FOR FURTHER INFORMATION CONTACT: Steve Lohr, Director of Natural Resources, via the project email address at SM.FS.PostFireRecovery@usda.gov, or by phone at 202-205-0650. Individuals who are deaf, hard of hearing, or have a speech disability may call 711 to reach the Telecommunications Relay Service and then provide the phone number of the person named as a point of contact for further information.

SUPPLEMENTARY INFORMATION:

Purpose and Need for Action

Wildfires are happening more often, burning larger areas, and lasting longer across the country—especially in the Western United States. The emergency conditions resulting from these fires, often made worse by too little active forest management, are directly and indirectly disrupting the lives of Americans nationwide and making recovery efforts more challenging and expensive. To proactively restore forest health and lower the risk of future fires, active management may be needed in areas that have already burned. Acting immediately and within the first year after a wildfire helps protect entire landscapes, improves safety, and often accelerates recovery on National Forest System lands that Tribes, rural economies, and communities depend upon.

The Forest Service develops post-fire recovery projects and routinely conducts individual environmental reviews for these projects. A national review of Forest Service post-fire recovery analyses under the National Environmental Policy Act shows that, regardless of location, these projects occur in a relatively similar manner and have similar environmental effects across the agency (timing, impacts, and methods of implementation), with the most noticeable differences being site specific design criteria or mitigation measures. As such, the Forest Service is preparing an environmental assessment to analyze the effects of general post-fire recovery actions on National Forest System lands in the continental United States to help facilitate subsequent site specific analysis if needed. The agency recognizes the need for:

• Appropriate standardization of project design and implementation, while providing flexibility to address local conditions;

• More rapid, efficient, and effective response by local managers to quickly changing post-fire conditions; and

• Strategic use of limited resources (for example, staff and budget).

There generally is a need to address burned areas in an expedited manner to accelerate post-fire recovery to restore safer, healthier forests in a timely manner at a landscape scale. The purpose of proposing this action is to analyze actions that are common to post recovery to facilitate more efficient site specific analysis that allows the agency to more timely:

• Mitigate hazards to infrastructure;

• Reduce combustible materials, such as trees damaged by fire, and woody debris;

• Harvest fire-killed and damaged trees before they lose their economic value; and

• Establish restored forest conditions after a fire.

Proposed Action

As indicated above, the Forest Service is proposing analysis of post-fire recovery actions, including mechanical and non-mechanical hazardous fuels reduction, hazardous tree removal, timber salvage, reforestation, and use of natural materials to restore water and soil systems. Maintenance or reconstruction of permanent roads and trails, or construction or removal of temporary roads, is proposed where necessary to enable post-fire recovery actions and reduce risk to infrastructure, people, and the environment. Public access to roads and motorized trails will conform with existing travel management decisions and land management plans; no authorized public access on motorized roads or trails will be added or removed as a result of this proposal.

The proposed action consists of the standard activities listed above including

• A general explanation of what the activity entails;

• The objective the activity accomplishes;

• The condition or situation that triggers the use of the activity;

• Identification of related actions that could occur when implementing the activity; and

• General design criteria common to these activities that describe how and when activities may be implemented (7 CFR 1b.11(a)(11)).

Design criteria may be refined or mitigation measures added, as part of project-level proposals and subsequent site specific supporting analysis, to modify activities based on any local resource conditions, circumstances, implementation methods, equipment to be used, or timing and duration of the activity. Design criteria will be refined or mitigation measures added at the project level regarding considerations such as:

• Access and public safety;

• Air quality;

• Biological and botanical resources (aquatics, plants, wildlife, and ecologically sensitive areas);

• Cultural and heritage resources;

• Herbicide use;

• Invasive and noxious plants and animals;

• Insect and disease infestations;

• Landscape and scenery;

• Transportation and engineering;

• Tribal rights and interests;

• Vegetation management; and

• Watershed conditions (including hydrology and soils).

Future site specific proposals utilizing this environmental assessment may use additional site specific analysis to refine design criteria or add mitigation measures to ensure compliance with treaty rights, applicable laws and regulations, and the land management plan or to ensure effects do not exceed a significance threshold when unique conditions or situations are encountered at the project level. If the application of design criteria and mitigation measures would not reduce project-level effects below a significance threshold, that project would need to be otherwise modified (e.g., avoiding activities altogether in certain areas), or an environmental impact statement would need to be prepared.

The Forest Service is proposing to analyze two alternatives in this environmental assessment: the proposed action alternative (developing and implementing a set of standard post-fire activities) and the no action alternative (not implementing a set of standard post-fire activities). Additional alternatives may be analyzed during site specific project development. Per National Environmental Policy Act, 42 U.S.C. 4332(2)(H), the agency does not anticipate any unresolved conflicts concerning alternative uses of available resources that would warrant consideration of additional alternatives.

Issues To Be Analyzed in Detail and Expected Impacts

The following list includes issues to be analyzed in detail and describes the preliminary effects, or impacts (changes to the human environment from the proposed action that are reasonably foreseeable and have a reasonably close causal relationship to the proposed action), anticipated from the subsequent implementation of this proposed action. This environmental assessment's consideration of alternative issues and impacts may change in response to public comment. The expected impacts take into consideration the context of the potentially affected environment, and the preliminary identification of design criteria that will be included as part of the proposed action. The affected environment is post-fire burned areas where ecosystem conditions and functions—such as habitat, vegetation, soils, and hydrology—have already been altered by fire and any associated emergency suppression and response activities.

• Effects to aquatic and terrestrial plant and wildlife habitat and species: Proposed activities may impact habitat for threatened, endangered, or sensitive aquatic and terrestrial plants and wildlife species (as well as species of conservation concern, 36 CFR 219.9(c)). While there may be short-term effects to some plant and wildlife species and some habitat conditions, long-term adverse changes to species and habitat conditions from proposed recovery actions in a burned area are unlikely. The proposed actions associated design criteria are intended to: prevent substantial adverse impacts to any species; reduce the level of significance; avoid a jeopardy finding for threatened or endangered species; avoid a trend toward federal listing; and maintain a viable population of a sensitive species and species of conservation concern. Forested habitat conditions may be improved and long-term impacts from the fire lessened where some dead or downed materials are removed or where reforestation activities occur.

• Effects to waterways and soils: The proposed recovery activities are not expected to result in measurable sediment impacts to waterways, given standard design criteria and national best management policies included as part of the proposed action. Ongoing impacts to soils and waterways resulting from fire and associated suppression and response activities may be reduced through maintenance and reconstruction of affected roads and infrastructure, and replacement or repair of affected stream crossings and aquatic organism passages.

• Effects to public access, recreation, and visual quality: Many post-fire recovery activities proposed in burned areas are specifically designed to address health and human safety concerns but may cause disruptions to public access. The primary treatment is hazard tree mitigation: felling damaged and dying trees that pose a hazard to forest users along National Forest System roads and trails, special use infrastructure such as power lines, and near trailheads and facilities. Hazard tree mitigation reduces risk to infrastructure and the people using it. Short-term disruptions to road and trail use, special use infrastructure, developed and dispersed recreation opportunities, and other permitted uses may occur due to temporary closures while the hazards are being addressed. Visual quality, already impacted by fire, may be further impacted by proposed activities in the short term but will recover more quickly over the long term by improved forest regeneration, where excessive dead and down materials are removed, and by reforestation activities.

• Economic effects: Post-fire timber salvage recovers the economic value of forest products from burned areas, which contributes to employment and income in local communities. Revenue from timber salvage can support the forest products industry, fund reforestation actions, create short-term employment opportunities, and may accelerate burned area recovery to allow other revenue-generating permitted uses (grazing, outfitter and guide services) and outdoor recreation and tourism to more quickly and safely resume.

Schedule

The Forest Service expects to publish a Post-Fire Recovery Environmental Assessment in April 2026. Subsequently, site specific scoping, documentation, and decisions will be issued on a project-by-project basis by forest or grassland supervisors or district rangers, with consideration of the analysis set forth in the Post-Fire Recovery Environmental Assessment. After a fire, and prior to a decision, the responsible official will:

• Identify post-fire recovery opportunities consistent with the activities and effects analyzed by this environmental assessment, and produce maps that identify where activities will occur in and adjacent to the burned area;

• Update proposed actions to specify methods and equipment to be used and timing and duration of the activity;

• Scope proposed actions consistent with applicable National Environmental Policy Act regulations;

• Tailor design criteria or add mitigation measures, as necessary, to ensure compliance with applicable laws, regulations, and land management plans or to ensure effects do not exceed a significance threshold when unique conditions or situations are encountered at the project level; and

• Document project-level findings, such as consistency with the applicable land management plan.

Anticipated Permits and Other Authorizations Required

Any required permits, licenses, or authorizations will be procured by local national forest and grassland units prior to the implementation of activities analyzed by this assessment.

In accordance with 36 CFR 800.8(c), the USDA Forest Service is hereby notifying the Advisory Council on Historic Preservation, State Historic Preservation Officers, and Tribal Historic Preservation Officers that it intends to use this environmental assessment for the purpose of compliance with section 106 of the National Historic Preservation Act.

Comments, Objections, and Consultation

Comments received on this notice of intent will guide the development of this nationwide environmental assessment. The Forest Service is requesting comments on alternatives or effects, and relevant information, studies, or analyses with respect to the proposal. Follow the instructions for sending comments (see ADDRESSES section). Comments should be provided prior to the close of the comment period and should clearly articulate the reviewer's concerns and contentions. When lengthy or complex comments are provided, they are most effective when accompanied by a brief, plainly worded summary of the main points. Comments, including attachments and any personal information provided in your comments, will be posted to the docket unchanged. Do not submit any information you consider to be private, Confidential Business Information, or other information the disclosure of which is restricted by statute.

This nationwide environmental assessment is an opportunity to provide comment and explore alternatives for actions that are generally common to all actions. It is intended to expedite subsequent site specific analysis. This nationwide environmental assessment will not be subject to objection under the pre-decisional administrative review processes established under section 105 of the Healthy Forests Restoration Act of 2003 (16 U.S.C. 6515; Pub. L. 108-148, Section 105) and the Consolidated Appropriations Act of 2012 (Pub. L. 112-74, Section 428) at 36 CFR 218 because there will be no decision at the national level. Site specific applications of this environmental assessment will be subject to all laws and regulations determining opportunity for notice, comment, or administrative review. Tribal governments and Alaska Native Corporations will have the opportunity to engage during the development of the environmental assessment through various coordination events and formal consultation, if desired.

Cooperating and Participating Agencies

The USDA Forest Service is the lead agency. No Cooperating or Participating Agencies have been designated. For purposes of this nationwide Environmental Assessment, the Forest Service does not anticipate designating any Federal, State, Tribal, or local agencies as cooperating or participating agencies. These organizations are encouraged to provide input through the public comment opportunity for this notice of intent.

Responsible Official

The responsible officials for post-fire recovery project decisions using the analysis in this environmental assessment will be forest or grassland supervisors or district rangers.

Dated: December 31, 2025.
Lisa Northrop,
Associate Deputy Chief, State, Private, and Tribal Forestry and National Forest System.

[FR Doc. 2026-00221 Filed 1-8-26; 8:45 am]

BILLING CODE 3411-15-P